DEPARTMENT OF HEALTH AND HUMAN SERVICES

Public Health Service

National Toxicology Program; National Toxicology Program (NTP) Board of Scientific Counselors Technical Reports Review Subcommittee Meeting; Review of Draft NTP Technical Reports

Pursuant to Public Law 92-463, notice is hereby given of the next meeting of the NTP Board of Scientific Counselors Technical Reports Review Subcommittee on May 18, 2000 in the Rodbell Auditorium, Building 101, South Campus, National Institute of Environmental Health Sciences (NIEHS), 111 Alexander Drive, Research Triangle Park, North Carolina. The meeting will begin at 8:30 a.m. on May 18 and is open to the public. The primary agenda topic is the peer review of draft Technical Reports of long-term toxicology and carcinogenesis studies from the NTP. There will also be a presentation about the beneficial effects of the NIH2000 diet in chronic studies.

Tentatively scheduled for peer review on May 18 are draft Technical Reports of six two-year studies, listed alphabetically in the attached table, along with supporting material. Studies were conducted using Fischer 344 rats and/or B6C3F1 mice. The tentative order of review is given in the far right column of the table.

Draft Reports Available for Public Review and Comment

Approximately one month prior to the meeting, the draft reports will be available for public review and comment on the Internet free of charge through the Environmental Health Information Service (EHIS) at http://ehis.niehs.nih.gov. Printed copies can be obtained, as available, from: Central Data Management, NIEHS, PO Box 12233 MD E1-02, Research Triangle Park, NC 27709, T: 919-541-3419, FAX: 919-541-3687, or email: CDM@niehs.nih.gov.

The NTP Board of Scientific Counselors Technical Reports Review Subcommittee meeting is open to the public and public comment on any of the Technical Reports is welcome. Time will be provided for public comment on each of the reports under review. In order to facilitate planning for the meeting, persons requesting time for an oral presentation on a particular Technical Report are asked to notify the Executive Secretary, Dr. Mary S. Wolfe (PO Box 12233, MD A3-07, Research Triangle Park, NC 27709; telephone 919/541-3971; FAX 919/541-0295; email wolfe@niehs.nih.gov). Persons registering to make comments are asked to provide, if possible, a written copy of their statement by May 12th to enable review by the Subcommittee and staff prior to the meeting. Written statements can supplement and may expand the oral presentation, and each speaker is asked to provide his/her name, affiliation, mailing address, phone, fax, e-mail and supporting organization (if any). At least seven minutes will be allotted to each speaker, and if time permits, may be extended to 10 minutes. Registration for making public comments will also be available on-site. If registering on-site to speak and reading oral comments from printed copy, the speaker is asked to bring 25 copies of the text. These copies will be distributed to the Chair and Subcommittee members and supplement the record.

Written comments, in lieu of making oral comments, are also welcome. The comments should include name, affiliation, mailing address, phone, fax, e-mail and sponsoring organization (if any) and preferably be received by May 12th to enable review by the Subcommittee and staff prior to the meeting.

Request for Additional Information

The NTP would welcome receiving toxicology and carcinogenesis information from completed, ongoing, or planned studies as well as current production data, human exposure information, and use patterns for any of the chemicals listed in this announcement. Please forward this information to Central Data Management at the address given above who will relay it to the appropriate staff scientist.

The agenda and a roster of Subcommittee members will be available prior to the meeting on the NTP web homepage at http://ntp-server.niehs.nih.gov and upon request from the Executive Secretary. Following the meeting, summary minutes will be available on the NTP web homepage and upon request to Dr. Wolfe.

Attachment

Dated: April 11, 2000.
Samuel H. Wilson,
Deputy Director, National Institute of Environmental Health Sciences.

Technical Reports Tentatively Scheduled for Review by the NTP Board of Scientific Counselors Technical Reports Review Subcommittee on May 18, 2000
Chemical CAS No. | Report No. | Primary uses | Route and exposure levels | Review order
Chloral Hydrate 302-17-0 | TR-502 | The primary sedative used in children | Gavage (water vehicle) Mice: 0, 25, 50, or 100 mg/kg | 4
Chloral Hydrate (feed restricted) 302-17-0 | TR-503 | The primary sedative used in children | Gavage (water vehicle; feed restriction study) Male Mice: 0, 25, 50, or 100 mg/kg | 5
p,p′-Dichlorodiphenyl Sulfone 80-07-9 | TR-501 | Starting product in production of polysulfones and polyether­sulfones; by-product of pesticide production | Feed Male Rats: 0, 10, 30, or 100 ppm; Female Rats & Mice: 0, 30, 100, or 300 ppm | 6
Indium Phosphide 22398-80-7 | TR-499 | Used in making semiconductors, lasers, solar cells, and photodiodes | Inhalation Rats & Mice: 0, 0.03, 0.1, or 0.3 mg/m ³ | 1
Naphthalene 91-20-3 | TR-500 | Ingredient in moth repellants and toilet bowl deodorants and as an intermediate in a variety of chemical synthesis processes | Inhalation Rats: 0, 10, 30, or 60 ppm | 2
Sodium Nitrite 7632-00-0 | TR-495 | Color fixative and preservative in meats and fish; also used in a variety of industrial processes | Drinking water Rats & Mice: 0, 750, 1500, or 3000 ppm | 3

[FR Doc. 00-9810 Filed 4-18-00; 8:45 am]

BILLING CODE 4140-01-P